DEPARTMENT OF ENERGY

Federal Energy Regulatory Commission

Combined Notice Filings #1

Take notice that the Commission received the following electric rate filings:

Docket Numbers: ER10-2739-026; ER10-1631-015; ER10-1854-015; ER10-1892-013; ER10-2678-016; ER10-2729-010; ER10-2744-016; ER11-3320-015; ER11-3321-009; ER13-2316-013; ER14-1219-010; ER14-19-014; ER14-2548-007; ER16-1652-014; ER16-1732-009; ER16-2405-009; ER16-2406-010; ER17-1946-008; ER17-1947-003; ER17-1948-003; ER17-989-008; ER17-990-008; ER17-992-008; ER17-993-008; ER18-95-005; ER20-1440-001; ER20-660-001.

Applicants: LS Power Marketing, LLC, Armstrong Power, LLC, Aurora Generation, LLC, Bath County Energy, LLC, Bolt Energy Marketing, LLC, Buchanan Energy Services Company, LLC, Buchanan Generation, LLC, Chambersburg Energy, LLC, Columbia Energy LLC, Doswell Limited Partnership, Gans Energy, LLC, Helix Ironwood, LLC, Helix Maine Wind Development, LLC, Helix Ravenswood, LLC, LifeEnergy, LLC, LSP University Park, LLC, Ocean State Power LLC, Riverside Generating Company, L.L.C., Rockford Power, LLC, Rockford Power II, LLC, Seneca Generation, LLC, Springdale Energy, LLC, Troy Energy, LLC, University Park Energy, LLC, Wallingford Energy LLC, West Deptford Energy, LLC, Yards Creek Energy, LLC.

Description: Updated Market Power Analysis for the Northeast Region of the LS Northeast MBR Sellers.

Filed Date: 6/26/20.

Accession Number: 20200626-5422.

Comments Due: 5 p.m. ET 8/25/20.

Docket Numbers: ER10-2794-032; ER12-1825-030; ER14-2672-017.

Applicants: EDF Trading North America, LLC, EDF Energy Services, LLC, EDF Industrial Power Services (CA), LLC.

Description: Updated Market Power Analysis for the Northeast Region of EDF Trading North America, LLC, et al.

Filed Date: 6/29/20.

Accession Number: 20200629-5414.

Comments Due: 5 p.m. ET 8/28/20.

Docket Numbers: ER15-1456-009; ER10-2934-015; ER10-2959-016; ER11-2335-015; ER11-3859-020; ER11-4634-009; ER14-1699-010; ER15-1457-009; ER15-748-006; ER17-436-008; ER18-920-005; ER19-464-002; ER19-967-003; ER19-968-003.

Applicants: Beaver Falls, L.L.C., Chambers Cogeneration Limited Partnership, Dighton Power, LLC, Fairless Energy, L.L.C., Garrison Energy Center LLC, Hazleton Generation LLC, Logan Generating Company, LP, Manchester Street, L.L.C., Marco DM Holdings, L.L.C., Marcus Hook Energy, L.P., Milford Power, LLC, Plum Point Services Company, LLC, Syracuse, L.L.C., Vermillion Power, L.L.C.

Description: Triennial Market Power Update of Beaver Falls, L.L.C., et al.

Filed Date: 6/29/20.

Accession Number: 20200629-5472.

Comments Due: 5 p.m. ET 8/28/20.

Docket Numbers: ER15-1905-008.

Applicants: Amazon Energy, LLC.

Description: Triennial Market Power Analysis for the Northeast Region of Amazon Energy, LLC.

Filed Date: 6/26/20.

Accession Number: 20200626-5419.

Comments Due: 5 p.m. ET 8/25/20.

Docket Numbers: ER15-2013-011; ER10-2435-018; ER10-2440-013; ER10-2442-015; ER10-2444-017; ER10-2446-013; ER10-2449-015; ER10-3286-014; ER10-3299-013; ER12-2510-010; ER12-2512-010; ER15-2014-007; ER15-2018-006; ER15-2022-006; ER15-2026-006; ER18-2252-002; ER19-2250-003; ER19-481-003.

Applicants: Talen Energy Marketing, LLC, Brandon Shores LLC, Brunner Island, LLC, Camden Plant Holding, L.L.C., Dartmouth Power Associates Limited Partnership, Elmwood Park Power, LLC, H.A. Wagner LLC, LMBE Project Company LLC, Martins Creek, LLC, MC Project Company LLC, Millennium Power Partners, LP, Montour, LLC, New Athens Generating Company, LLC, Newark Bay Cogeneration Partnership, L.P, Pedricktown Cogeneration Company LP, Susquehanna Nuclear, LLC, York Generation Company LLC, TrailStone Energy Marketing, LLC.

Description: Updated Market Power Analysis for the Riverstone Northeast MBR Sellers.

Filed Date: 6/29/20.

Accession Number: 20200629-5436.

Comments Due: 5 p.m. ET 8/28/20.

Docket Numbers: ER17-1314-003; ER10-2398-009; ER10-2399-009; ER10-2406-010; ER10-2408-006; ER10-2409-009; ER10-2410-009; ER10-2411-010; ER10-2412-010; ER11-2935-011; ER13-1816-012; ER14-1933-009; ER16-1152-004; ER16-1724-006; ER17-1315-006; ER18-1189-004; ER19-1281-001; ER19-1282-002.

Applicants: Arkwright Summit Wind Farm LLC, Blackstone Wind Farm, LLC, Blackstone Wind Farm II LLC, Headwaters Wind Farm LLC, High Trail Wind Farm, LLC, Lexington Chenoa Wind Farm LLC, Jericho Rise Wind Farm LLC, Marble River, LLC, Meadow Lake Wind Farm LLC, Meadow Lake Wind Farm II LLC, Meadow Lake Wind Farm III LLC, Meadow Lake Wind Farm IV LLC, Meadow Lake Wind Farm V LLC, Meadow Lake Wind Farm VI LLC, Paulding Wind Farm II LLC, Paulding Wind Farm III LLC, Paulding Wind Farm IV LLC, Sustaining Power Solutions LLC.

Description: Updated Market Power Analysis for the Northeast Region of Arkwright Summit Wind Farm LLC, et al.

Filed Date: 6/26/20.

Accession Number: 20200626-5423.

Comments Due: 5 p.m. ET 8/25/20.

Docket Numbers: ER18-2399-003; ER15-1147-003; ER18-1990-003; ER19-1194-002.

Applicants: Canal Generating LLC, Canal 3 Generating LLC, Stonepeak Kestrel Energy Marketing LLC, Bucksport Generation LLC.

Description: Updated Market Power Analysis for the Northeast Region of Canal Generating LLC, et al.

Filed Date: 6/29/20.

Accession Number: 20200629-5437.

Comments Due: 5 p.m. ET 8/28/20.

Docket Numbers: ER19-106-002.

Applicants: Birdsboro Power LLC.

Description: Triennial Compliance Filing and Notice of Non-Material Change in Status of Birdsboro Power LLC.

Filed Date: 6/29/20.

Accession Number: 20200629-5399.

Comments Due: 5 p.m. ET 8/28/20.

Docket Numbers: ER19-1200-001; ER10-2346-010; ER10-2353-010; ER11-4351-010; ER19-842-001.

Applicants: Clearway Power Marketing LLC, Energy Center Paxton LLC, Forward WindPower LLC, Lookout WindPower LLC, Pinnacle Wind, LLC.

Description: Updated Market Power Analysis for the Northeast Region of the Clearway Northeast MBR Sellers.

Filed Date: 6/25/20.

Accession Number: 20200625-5192.

Comments Due: 5 p.m. ET 8/25/20.

Docket Numbers: ER20-2014-000.

Applicants: Rattlesnake Flat, LLC.

Description: Supplement to June 8, 2020 Rattlesnake Flat, LLC tariff filing.

Filed Date: 6/25/20.

Accession Number: 20200625-5187.

Comments Due: 5 p.m. ET 7/6/20.

Docket Numbers: ER20-2239-000.

Applicants: Southwest Power Pool, Inc.

Description: § 205(d) Rate Filing: Kansas Power Pool Formula Rate to be effective 9/1/2020.

Filed Date: 6/29/20.

Accession Number: 20200629-5433.

Comments Due: 5 p.m. ET 7/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2020.
Nathaniel J. Davis, Sr.,
Deputy Secretary.

[FR Doc. 2020-14549 Filed 7-6-20; 8:45 am]

BILLING CODE 6717-01-P